DEPARTMENT OF THE INTERIOR

National Park Service

36 CFR Parts 1 and 2

[NPS-WASO-REGS-17326; GPO Deposit Account 4311H2]

RIN 1024-AE30

Withdrawal of the Proposed Rule To Revise General Provisions; Electronic Cigarettes

AGENCY: National Park Service; Interior.

ACTION: Proposed rule; withdrawal.

SUMMARY: The National Park Service withdraws the proposed rule that would revise the regulation that defines smoking to include the use of electronic cigarettes and other electronic nicotine delivery systems; and would allow a superintendent to close an area, building, structure, or facility to smoking when necessary to maintain public health and safety. The withdrawal is based upon a need to engage in additional interagency coordination and review of the proposal.

DATES: The January 6, 2017, proposed rule (82 FR 1647) is withdrawn as of January 18, 2017.

ADDRESSES: The withdrawal of the proposed rule, and comments, are available at www.regulations.gov by searching for Regulation Identifier Number (RIN) 1024-AE30.

FOR FURTHER INFORMATION CONTACT: Sara Newman, Director, Office of Public Health, by telephone 202-513-7225, or email sara_newman@nps.gov.

SUPPLEMENTARY INFORMATION: This withdrawal does not affect Director's Order #50D (Smoking Policy), originally issued in 2003 and then revised and reissued in 2009, and Policy Memorandum 15-03 (Use of Electronic Nicotine Delivery Systems), issued on September 10, 2015, which remain in effect and are available online on the NPS Office of Policy Web site at http://www.nps.gov/applications/npspolicy/index.cfm by clicking on the drop-down menu and selecting “Smoking” from the list of policy subjects.

Michael Bean,
Principal Deputy Assistant Secretary for Fish and Wildlife and Parks.

[FR Doc. 2017-01060 Filed 1-17-17; 8:45 am]

BILLING CODE 4312-52-P